Title 3—

The President

Proclamation 7386 of December 9, 2000

Human Rights Day, Bill of Rights Day, and Human Rights Week, 2000

By the President of the United States of America

A Proclamation

On December 15, 1791, the Bill of Rights was ratified. A century and a half later, on December 10, 1948, the United Nations General Assembly adopted the Universal Declaration of Human Rights. Though separated by more than 150 years, these two documents are not dusty relics of a distant past—the ideas they so powerfully express continue to shape the destiny of individuals and nations across the globe.

Because the rights guaranteed by these documents, such as freedom of conscience, freedom of speech, freedom of assembly, and freedom from arbitrary arrest, are such an inherent part of America's history and national character, we at times may take them for granted. We sometimes forget that people elsewhere in the world are suffering, struggling, and even dying because these rights are denied them by oppressive governments. In countries such as Afghanistan, Burma, and the Sudan, men and women are harassed, arrested, and executed for worshipping according to their conscience. In many corners of the world, modern-day slavery still exists, with criminals trafficking in women and children and profiting from their servitude.

But there is hope for the future. Globalization and the revolution in information technology are helping to break down the former barriers of geography and official censorship. People fighting for human rights in disparate places around the world can talk to one another, learn from one another, and shine the light of public scrutiny on the dark corners of the world. Free nations can work in concert to combat human rights abuses, as the United States did last spring when we joined with the Philippines and more than 20 other Asian and Pacific nations to develop a regional action plan to combat trafficking in persons and protect trafficking victims.

The Reverend Martin Luther King, Jr., once said that the arc of the moral universe is long, but it bends toward justice. We have seen the truth of that statement in the history of America, where each generation has strived to live up to our founders' vision of human dignity: that we are all created equal and that we all have the right to life, liberty, and the pursuit of happiness. But that statement holds true for the world's history as well; in our own lifetime, we have seen the fall of the Berlin Wall and the triumph of democracy in the Cold War. More people live in freedom today than at any other time in history.

But that march toward freedom is not inevitable; it is advanced by individual acts of courage and will; by the strong voices of people refusing to be silenced by their oppressors; by the willingness of free people and free nations to defend the rights of men, women, and children. Heroes like Lech Walesa in Poland, Vaclav Havel in the Czech Republic, Nelson Mandela in South Africa, and Aung San Suu Kyi in Burma are powerful reminders of how precious our human rights are and how high the cost is to sustain them. The Bill of Rights and the Universal Declaration of Human Rights that we celebrate this week are not merely proud words preserved on paper; they are a pledge written on our consciences and to oppressed people everywhere, so that they too will some day know the meaning of dignity and the blessing of human rights.

NOW, THEREFORE, I, WILLIAM J. CLINTON, President of the United States of America, by virtue of the authority vested in me by the Constitution and laws of the United States, do hereby proclaim December 10, 2000, as Human Rights Day; December 15, 2000, as Bill of Rights Day; and the week beginning December 10, 2000, as Human Rights Week. I call upon the people of the United States to celebrate these observances with appropriate activities, ceremonies, and programs that demonstrate our national commitment to the Bill of Rights, the Universal Declaration of Human Rights, and promotion and protection of human rights for all people.

IN WITNESS WHEREOF, I have hereunto set my hand this Ninth day of December, in the year of our Lord two thousand, and of the Independence of the United States of America the two hundred and twenty-fifth.

wj

[FR Doc. 00-32035

Filed 12-13-00; 8:45 am]

Billing code 3195-01-P